COMMODITY FUTURES TRADING COMMISSION

Technology Advisory Committee; First Renewal

The Commodity Futures Trading Commission has determined to renew for a period of two years its Technology Advisory Committee. The Commission has determined that the renewal of the advisory committee is in the public interest in connection with duties imposed on the Commission by the Commodity Exchange Act, 7 U.S.C. 1, et seq., as amended.

The purpose of the Technology Advisory Committee is to advise the Commission on the impact and implications of technological innovation in the financial services and commodity markets. Meetings of the Technology Advisory Committees are public. Commissioner Thomas J. Erickson serves as Chairman and Designated Federal Official of the Technology Advisory Committee.

Interested persons may obtain information or make comments by writing to the Commodity Futures Trading Commission, Three Lafayette Centre, 1155 21st Street, NW., Washington, DC 20581.

Issued in Washington, DC on November 8, 2001, by the Commission.
Jean A. Webb,
Secretary of the Commission.

[FR Doc. 01-28654 Filed 11-14-01; 8:45 am]

BILLING CODE 6351-01-M